DEPARTMENT OF ENERGY

Federal Energy Regulatory Commission

[Docket No. CP08-25-000]

Transcontinental Gas Pipe Line Corporation; Notice of Application

November 28, 2007.

Take notice that on November 13, 2007, Transcontinental Gas Pipe Line Corporation (Transco), P.O. Box 1396, Houston, Texas 77251, filed in Docket No. CP08-25-000 an application pursuant to section 7(b) of the Natural Gas Act (NGA) and Part 157 of the Commission's regulations for permission and approval to abandon by sale to DCP Midstream, LP (DCP Midstream),¹ Transco's onshore pipeline facilities in South Texas upstream of Transco's La Gloria lateral in Jim Wells County, Texas, and to abandon the related transportation and exchange services, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

¹ Concurrently, DCP Midstream, LP, filed a Petition for Declaratory Order with the Commission on November 13, 2007, in Docket No. CP08-22-000.

Transco proposes to abandon by sale to DCP Midstream and that DCP Midstream has agreed to purchase Transco's 100 percent undivided ownership interest in the following facilities, referred to as the “South Texas facilities”: (1) The South Texas central line between milepost 0.00 and 78.89, which consists of 37.63 miles of 10-inch diameter pipeline and 41.26 miles of 14-inch diameter pipeline; (2) the Starr lateral and loop, which consists of 23.17 miles of 10-inch diameter pipeline and 18.7 miles of 20-inch diameter pipeline; (3) the Carter Ranch lateral, which is comprised of the North Rucias lateral, consisting of 7.9 miles of 8-inch diameter pipeline; the Carter Ranch line, consisting of 1.63 miles of 6-inch pipeline and 0.38 miles of 4-inch pipeline; and the North Rucias line, consisting of 0.72 miles of 6-inch diameter pipeline and 2.23 miles of 4-inch diameter pipeline; (4) the Lacy-Tesoro-Inexco lateral, which consists of 1.94 miles of 6-inch diameter pipeline; and (5) meter stations, valves, miscellaneous field and tie-in piping, other appurtenances along the above pipeline segments, and related realty and easement rights. Transco states that the requested abandonment would have no impact on the daily design capacity of, or operating conditions, on Transco's pipeline system.

Transco also states that the proposed abandonment would enable Transco to transfer facilities that are no longer integral to its provision of natural gas transportation service and allow DCP Midstream, a current owner and operator of natural gas gathering facilities in Texas, to integrate the South Texas facilities with its existing system to provide natural gas gathering and processing options not currently available to customers on the facilities while maintaining the ability to deliver natural gas to Transco's pipeline system at the tailgate of the La Gloria processing plant.

Any questions regarding this application should be directed to Ingrid Germany, Staff Analyst, Certificates & Tariffs, P.O. Box 1396, Houston, Texas 77251, at (713) 215-4015.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: December 19, 2007.

Kimberly D. Bose,
Secretary.

[FR Doc. E7-23619 Filed 12-5-07; 8:45 am]

BILLING CODE 6717-01-P